DEPARTMENT OF ENERGY

Federal Energy Regulatory Commission

[Docket No. RM01-12-000]

Standard Market Design, Data and Software Standards; Notice of Conference

April 12, 2002.

The Federal Energy Regulatory Commission (Commission) will hold a conference on data and software needs in connection with the Commission's Standard Market Design (SMD) rule. The conference will be held on May 22, 2002, starting at 9:30 a.m. in the Commission Meeting Room at the Federal Energy Regulatory Commission, 888 First Street, NE., in Washington DC.

The conference will discuss what data and software standards are needed to implement SMD efficiently. The focus will be on exploring what should be standardized; whether there should be a standard data model; on examining the potential for developing data sets to benchmark the needed software; and on finding user interfaces that are transparent and which will instill confidence in the process.

All interested parties are invited to attend.

The conference will be transcribed. Those interested in acquiring the transcript should contact Ace Reporters at 202-347-3700, or 800-336-6646. Transcripts will be placed in the public record ten days after the conference.

We will issue further details, including the agenda and a list of participating discussants, as plans evolve. For additional information, please contact René Forsberg at 202-208-0425 or René.Forsberg@ferc.gov.

Linwood A. Watson, Jr.,
Deputy Secretary.

[FR Doc. 02-9473 Filed 4-17-02; 8:45 am]

BILLING CODE 6717-01-P